FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 21, 2008.

A. Federal Reserve Bank of Cleveland (Douglas A. Banks, Vice President) 1455 East Sixth Street, Cleveland, Ohio 44101-2566:

1. David E. Snyder; to acquire voting shares of Merchants Bancorp of Pennsylvania, Inc., and thereby indirectly acquire voting shares of Merchants National Bank of Kittanning, all of Kittanning, Pennsylvania.

B. Federal Reserve Bank of Atlanta (David Tatum, Vice President) 1000 Peachtree Street, N.E., Atlanta, Georgia 30309:

1. William Blanton Sr., Alpharetta, Georgia; to acquire additional voting shares of United Americas Bankshares, Inc., and thereby indirectly acquire additional voting shares of United Americas Bank, N.A., both of Atlanta, Georgia.

C. Federal Reserve Bank of Kansas City (Todd Offenbacker, Assistant Vice President) 925 Grand Avenue, Kansas City, Missouri 64198-0001:

1. Kelly J. Schoen; to acquire voting shares of Freedom Bancshares, Inc., and thereby indirectly acquire voting shares of Freedom Bank, all of Overland Park, Kansas.

Board of Governors of the Federal Reserve System, February 1, 2008.
Jennifer J. Johnson,
Secretary of the Board.

[FR Doc. E8-2126 Filed 2-5-08; 8:45 am]

BILLING CODE 6210-01-S